DEPARTMENT OF ENERGY

Federal Energy Regulatory Commission

Combined Notice of Filings #1

Take notice that the Commission received the following electric corporate filings:

Docket Numbers: EC15-82-000.

Applicants: Spokane Energy, LLC, Avista Corporation.

Description: Supplement to March 2, 2015 Joint Application of Spokane Energy, LLC and Avista Corporation for Approval of Assignment of Capacity Sales Agreement.

Filed Date: 4/8/15.

Accession Number: 20150408-5136.

Comments Due: 5 p.m. ET 4/20/15.

Docket Numbers: EC15-115-000.

Applicants: American Transmission Company LLC.

Description: Application for Authority to Acquire Transmission Facilities Under Section 203 of the FPA of American Transmission Company LLC.

Filed Date: 4/7/15.

Accession Number: 20150407-5253.

Comments Due: 5 p.m. ET 4/28/15.

Take notice that the Commission received the following electric rate filings:

Docket Numbers: ER15-697-001.

Applicants: Tonopah Solar Energy, LLC.

Description: Third supplement to December 22, 2014 Tonopah Solar Energy, LLC tariff filing.

Filed Date: 4/7/15.

Accession Number: 20150407-5257.

Comments Due: 5 p.m. ET 4/17/15.

Docket Numbers: ER15-1019-000.

Applicants: Fowler Ridge IV Wind Farm LLC.

Description: Supplement to February 10, 2015 Fowler Ridge IV Wind Farm LLC tariff filing.

Filed Date: 4/7/15.

Accession Number: 20150407-5256.

Comments Due: 5 p.m. ET 4/17/15.

Docket Numbers: ER15-1332-001.

Applicants: Arbuckle Mountain Wind Farm LLC.

Description: Tariff Amendment per 35.17(b): Supplement to MBR Application to be effective 5/18/2015.

Filed Date: 4/8/15.

Accession Number: 20150408-5095.

Comments Due: 5 p.m. ET 4/29/15.

Docket Numbers: ER15-1333-001.

Applicants: Waverly Wind Farm LLC.

Description: Tariff Amendment per 35.17(b): Supplement to MBR Application to be effective 5/18/2015.

Filed Date: 4/8/15.

Accession Number: 20150408-5096.

Comments Due: 5 p.m. ET 4/29/15.

Docket Numbers: ER15-1470-000.

Applicants: PJM Interconnection, L.L.C.

Description: Compliance filing per 35: Request for Expedited Grant of Waiver to be effective N/A.

Filed Date: 4/7/15.

Accession Number: 20150407-5215.

Comments Due: 5 p.m. ET 4/14/15.

Docket Numbers: ER15-1471-000.

Applicants: Blue Sky West, LLC.

Description: Initial rate filing per 35.12 Application for Market-Based Rate Authority to be effective 6/1/2015.

Filed Date: 4/7/15.

Accession Number: 20150407-5239.

Comments Due: 5 p.m. ET 4/28/15.

Docket Numbers: ER15-1472-000.

Applicants: Niagara Mohawk Power Corporation.

Description: Notice of Cancellation of Borderline Sales Agreement with Pennsylvania Electric Co., Rate Schedule No. 185 of Niagara Mohawk Power Corporation.

Filed Date: 4/7/15.

Accession Number: 20150407-5252.

Comments Due: 5 p.m. ET 4/28/15.

Docket Numbers: ER15-1473-000.

Applicants: Midcontinent Independent System Operator, Inc.

Description: Section 205(d) rate filing per 35.13(a)(2)(iii): 2015-04-08_SA 2771 ATC-Cloverland Common Facilities Agreement to be effective 6/8/2015.

Filed Date: 4/8/15.

Accession Number: 20150408-5037.

Comments Due: 5 p.m. ET 4/29/15.

Docket Numbers: ER15-1474-000.

Applicants: Southern California Edison Company.

Description: Section 205(d) rate filing per 35.13(a)(2)(iii): GIA and Distrib Serv Agmt Boomer Solar 12 LLC 810 Wanamaker Ave. Ontario Project to be effective 4/9/2015.

Filed Date: 4/8/15.

Accession Number: 20150408-5078.

Comments Due: 5 p.m. ET 4/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2015.
Nathaniel J. Davis, Sr.,
Deputy Secretary.

[FR Doc. 2015-08515 Filed 4-13-15; 8:45 am]

BILLING CODE 6717-01-P